DEPARTMENT OF HEALTH AND HUMAN SERVICES

Centers for Disease Control and Prevention

[Request For Application 05032]

Capacity Building Assistance for Global HIV/AIDS Program Development Through Technical Assistance Collaboration With the National Association of State and Territorial AIDS Directors (NASTAD); Notice of Intent To Fund Single Eligibility Award

A. Purpose

The purpose of the program is to support capacity-building assistance for HIV/AIDS program development through technical assistance (TA) provided to GAP Program countries. The term “capacity building assistance” means the provision of information, technical assistance, training, and technology transfer for individuals and organizations to improve the delivery and effectiveness of HIV prevention, care and treatment services and interventions. This does not include the delivery of direct HIV prevention, care or treatment services and interventions.

The Catalog of Federal Domestic Assistance number for this program is 93.067.

B. Eligible Applicant

Assistance will be provided only to the National Alliance of State and Territorial AIDS Directors (NASTAD) for this project. No other applications are solicited or will be accepted. This announcement and application will be sent to NASTAD.

NASTAD is the appropriate and only qualified agency to provide the services specified under this cooperative agreement because:

1. NASTAD is the only officially established organization that represents the State and Territorial AIDS Directors in all 50 U.S. States and all U.S. Territories. As such, it represent the officials from throughout the U.S. who have responsibility for designing, implementing, and evaluating HIV/AIDS prevention programs protecting the health of U.S. citizens against the threat of HIV and acquired immunodeficiency syndrome (AIDS). This places NASTAD in a unique position to act as a liaison between state and territorial HIV/AIDS prevention programs and GAP country public health officials. In addition, the same set of knowledge, skills, and abilities NASTAD has developed in working with State and Territorial AIDS Directors are of critical importance in improving the technical capacity of national AIDS control programs in African, Caribbean, Central and South American countries and India.

2. Health threats such as HIV are not confined by geographic boundaries. NASTAD was formed to promote coordination of HIV/AIDS prevention efforts among the States and territories. The organization is uniquely positioned to collaborate not only with national organizations, including Federal agencies, but also with national AIDS control program officials in GAP countries, on policy and program issues from a U.S. government model, multi-state perspective. In this collaboration NASTAD is positioned to monitor, assess, and improve HIV/AIDS prevention program design, implementation, and evaluation in GAP countries.

3. In the U.S., NASTAD coordinates the efforts of HIV/AIDS Prevention Program Directors, who work together with CDC to monitor the implementation of prevention programs across States and territories, assess the impact of prevention programs, share successes and challenges, monitor issues and obstacles to implementation of effective interventions, provide technical assistance and consult with CDC, one another, and other governmental and non-governmental prevention partners on these issues. Therefore NASTAD possesses unique knowledge and insight that can be applied to GAP country programs through the provision of technical assistance aimed at strengthening the ability of national AIDS control programs to develop HIV/AIDS programs based on the best practices of U.S. state and territory programs.

4. It is critical that NASTAD conducts these services since it represents the HIV/AIDS Program Directors who oversee and deliver HIV prevention, care and treatment policies, programs, and activities. Since NASTAD represents the HIV/AIDS Program Directors who have responsibility for HIV prevention, care and treatment within their jurisdictions, it is the only organization that can work collaboratively with individual AIDS Directors to provide multi-jurisdiction perspectives and translate knowledge, skills, and abilities to national AIDS control program officials in GAP countries.

5. NASTAD has already established mechanisms for communicating HIV/AIDS prevention, care and treatment information to the States and the political subdivisions of the States that carry out the National HIV/AIDS programs. They can use these mechanisms to exchange information between the States and public health officials in GAP countries to identify and develop effective HIV/AIDS information networks and dissemination systems. Because of their experience and established communications mechanisms, NASTAD is in a unique position to assist national AIDS control program officials with the dissemination of HIV/AIDS prevention, care and treatment information.

C. Funding

Approximately $2,000,000 is available in FY 2005 to fund this award. It is expected that the award will begin on or before April 1, 2005, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For technical questions about this program, contact: Ethleen Lloyd, Project Officer, CDC/NCHSTP/GAP, 1600 Clifton Road, NE (MS-E04), Atlanta, GA 30333, Telephone: (404) 639-6318, E-mail: esl1@cdc.gov.

Dated: January 21, 2005.
William P. Nichols,
Acting Director, Procurement and Grants Office, Centers for Disease Control and Prevention.

[FR Doc. 05-1497 Filed 1-26-05; 8:45 am]

BILLING CODE 4163-18-P